DEPARTMENT OF THE INTERIOR

National Park Service

[NPS-WASO-NAGPRA-21093; PPWOCRADN0-PCU00RP14.R50000]

Notice of Inventory Completion: Evanston History Center, Evanston, IL

AGENCY: National Park Service, Interior.

ACTION: Notice.

SUMMARY: The Evanston History Center has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Evanston History Center. If no additional requestors come forward, transfer of control of the human remains to the Indian tribes or Native Hawaiian organizations stated in this notice may proceed.

DATES: Representatives of any Indian tribe or Native Hawaiian organization not identified in this notice that wish to request transfer of control of these human remains should submit a written request with information in support of the request to the Evanston History Center at the address in this notice by July 8, 2016.

ADDRESSES: Alyssa M. Padilla, Evanston History Center, 225 Greenwood Street, Evanston, IL 60201, telephone (847) 475-3410, email apadilla@evanstonhistorycenter.org.

SUPPLEMENTARY INFORMATION: Notice is here given in accordance with the Native American Graves Protection and Repatriation Act (NAGPRA), 25 U.S.C. 3003, of the completion of an inventory of human remains under the control of the Evanston History Center, Evanston, IL. The first set of human remains was removed from either Albany, Whiteside County, IL or Evanston, Cook County, IL. The second set of human remains was removed from Evanston, Cook County, IL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Evanston History Center professional staff in consultation with representatives of Delaware Nation, Oklahoma; Forest County Potawatomi Community, Wisconsin; Hannahville Indian Community, Michigan; Ho-Chunk Nation of Wisconsin; Iowa Tribe of Kansas and Nebraska; Peoria Tribe of Indians of Oklahoma; Sac & Fox Nation of Missouri in Kansas and Nebraska; and the United Keetoowah Band of Cherokee Indians in Oklahoma.

History and Description of the Remains

In 1878, human remains representing, at minimum, one individual were removed from either Albany, Whiteside County, IL (Albany Mounds, site 11WT1) or Evanston, Cook County, IL. Conflicting provenance indicated on inventory tags and lack of accession records complicate the history of these human remains. One document asserts it is the skull of a Native American girl removed from a mound on the upper terrace of hills on the Mississippi river near Albany, IL in 1878 and was donated by F.S. Pooler (donation date unknown). Another document indicates that the skull was unearthed in a burial ground on the site of the present Evanston Hospital. It is unknown what methods were used in determining the age or gender of the cranium. No known individuals were identified. No associated funerary objects are present.

On an unknown date, prior to 1929, human remains representing, at minimum, one individual were removed from south Evanston, Cook County, IL, along the lake shore. The fragmented human remains were presented to the Evanston Historical Society in 1929 as part of the C.S. Raddin Collection. Charles Salisbury Raddin (1863-1930) was an early director of the Evanston Historical Society. It is unknown when or exactly where on the South Evanston lakeshore the fragments were originally discovered. No known individuals were identified. No associated funerary objects are present.

Determinations Made by the Evanston History Center

Officials of the Evanston History Center have determined that:

• Pursuant to 25 U.S.C. 3001(9), the human remains described in this notice are Native American based on collection documentation in the Evanston History Center's records.

• Pursuant to 25 U.S.C. 3001(9), the human remains described in this notice represent the physical remains of 2 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Citizen Potawatomi Nation, Oklahoma; Forest County Potawatomi Community, Wisconsin; Hannahville Indian Community, Michigan; Ho-Chunk Nation of Wisconsin; Match-e-be-nash-she-wish Band of Pottawatomi Indians of Michigan; Nottawaseppi Huron Band of the Potawatomi, Michigan; Pokagon Band of Potawatomi Indians, Michigan and Indiana; Prairie Band of Potawatomi Nation; Sac & Fox Nation of Missouri in Kansas and Nebraska; Sac & Fox Nation, Oklahoma; Sac & Fox Tribe of the Mississippi in Iowa; and the Winnebago Tribe of Nebraska.

• Pursuant to 43 CFR 10.11(c)(1), the disposition of the human remains may be to the Citizen Potawatomi Nation, Oklahoma; Forest County Potawatomi Community, Wisconsin; Hannahville Indian Community, Michigan; Ho-Chunk Nation of Wisconsin; Match-e-be-nash-she-wish Band of Pottawatomi Indians of Michigan; Nottawaseppi Huron Band of the Potawatomi, Michigan; Pokagon Band of Potawatomi Indians, Michigan and Indiana; Prairie Band of Potawatomi Nation; Sac & Fox Nation of Missouri in Kansas and Nebraska; Sac & Fox Nation, Oklahoma; Sac & Fox Tribe of the Mississippi in Iowa; and the Winnebago Tribe of Nebraska.

Additional Requestors and Disposition

Representatives of any Indian tribe or Native Hawaiian organization not identified in this notice that wish to request transfer of control of these human remains should submit a written request with information in support of the request to Alyssa M. Padilla, Evanston History Center, 225 Greenwood Street, Evanston, IL 60201, telephone (847) 475-3410, email apadilla@evanstonhistorycenter.org, by July 8, 2016, After that date, if no additional requestors have come forward, transfer of control of the human remains to Citizen Potawatomi Nation, Oklahoma; Forest County Potawatomi Community, Wisconsin; Hannahville Indian Community, Michigan; Ho-Chunk Nation of Wisconsin; Match-e-be-nash-she-wish Band of Pottawatomi Indians of Michigan; Nottawaseppi Huron Band of the Potawatomi, Michigan; Pokagon Band of Potawatomi Indians, Michigan and Indiana; Prairie Band of Potawatomi Nation; Sac & Fox Nation of Missouri in Kansas and Nebraska; Sac & Fox Nation, Oklahoma; Sac & Fox Tribe of the Mississippi in Iowa; and the Winnebago Tribe of Nebraska may proceed.

The Evanston History Center is responsible for notifying the Citizen Potawatomi Nation, Oklahoma; Forest County Potawatomi Community, Wisconsin; Hannahville Indian Community, Michigan; Ho-Chunk Nation of Wisconsin; Match-e-be-nash-she-wish Band of Pottawatomi Indians of Michigan; Nottawaseppi Huron Band of the Potawatomi, Michigan; Pokagon Band of Potawatomi Indians, Michigan and Indiana; Prairie Band of Potawatomi Nation; Sac & Fox Nation of Missouri in Kansas and Nebraska; Sac & Fox Nation, Oklahoma; Sac & Fox Tribe of the Mississippi in Iowa; and the Winnebago Tribe of Nebraska that this notice has been published.

Dated: May 16, 2016.
Melanie O'Brien,
Manager, National NAGPRA Program.

[FR Doc. 2016-13590 Filed 6-7-16; 8:45 am]

BILLING CODE 4312-50-P